DEPARTMENT OF HEALTH AND HUMAN SERVICES

Statement of Organization, Functions, and Delegations of Authority; Office of the General Counsel

AGENCY: Office of the General Counsel, HHS.

ACTION: Notice of title changes in agency components.

SUMMARY: This document announces the Office of the Secretary (OS)'s Statement of Organization, Functions, and Delegations of Authority for the Department of Health and Human Services, Office of the General Counsel (OGC), is being amended to reflect title changes in several of its components.

SUPPLEMENTARY INFORMATION: Part A, of the Office of the Secretary (OS)'s Statement of Organization, Functions, and Delegations of Authority for the Department of Health and Human Services, Chapter AG, Office of the General Counsel (OGC), as last amended at 56 FR 47965, dated September 23, 1991 is being amended to reflect title changes in several of its components. The changes are as follows:

I. Under Chapter AG, Office of the General Counsel, Section AG.18 “Divisions in the Office of the General Counsel,” delete in its entirety and replace with the following:

Section AG.18 Divisions in the Office of the General Counsel. The Divisions of the Office of the General Counsel are:

• General Law Division (AGC)

• Children, Families and Aging Division (AGK)

• Ethics Division (AGE)

• Food and Drug Division (AGF)

• Public Health Division (AGH)

• Legislation Division (AGL)

• Centers for Medicare & Medicaid Services Division (AGP)

• Civil Rights Division (AGR)

II. Under Chapter AG, Office of the General Counsel, Section AG.22 “Divisions in the Office of the General Counsel,” make the following changes:

1. Retitle Paragraph #1, “Business and Administrative Law Division,” to the “General Law Division.”

2. Delete Paragraph #3, “Inspector General Division,” in its entirety.

Dated: December 23, 2013.
E.J. Holland, Jr.,
Assistant Secretary for Administration.

[FR Doc. 2014-03725 Filed 2-20-14; 8:45 am]

BILLING CODE 4150-26-P